DEPARTMENT OF ENERGY

Federal Energy Regulatory Commission

[Docket No. GT01-8-000]

Northwest Pipeline Corporation; Notice of Proposed Changes in FERC Gas Tariff and Filing of Non-Conforming Service Agreement

January 17, 2001.

Take notice that on January 9, 2001, Northwest Pipeline Corporation (Northwest) tendered for filing and acceptance a Rate Schedule TF-1 non-conforming service agreement. Northwest also tendered as part of its FERC Gas Tariff, Third Revised Volume No. 1, the following tariff sheets, to be effective February 9, 2001:

Eighth Revised Sheet No. 364

Sixth Revised Sheet No. 365

Second Revised Sheet No. 366

Northwest states that the service agreement contains a scheduling priority provision imposing subordinate primary corridor rights and that the tariff sheets are submitted to add such agreement to the list of non-conforming service agreements contained in Northwest's tariff and to update that list to reflect other minor changes.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at ­http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1927 Filed 1-22-01; 8:45 am]

BILLING CODE 6717-01-M